DEPARTMENT OF COMMERCE

International Trade Administration

[A-570-848]

Freshwater Crawfish Tail Meat From the People's Republic's of China: Rescission of New Shipper Reviews

AGENCY: Import Administration, International Trade Administration, Department of Commerce.

SUMMARY: On March 7, 2007, the Department of Commerce (“Department”) published its preliminary notice of its intent to rescind the 2005/2006 simi-annual new shipper reviews of the antidumping duty order on freshwater crawfish tail meat from the People's Republic of China (“PRC”). See Freshwater Crawfish Tail Meat from the People's Republic of China: Preliminary Notice of Intent to Rescind New Shipper Reviews, 72 FR 10148 (March 7, 2007) (“Preliminary Rescission”). As we received no comments or new information after the publication of the Preliminary Rescission, we have made no changes to our preliminary decision to rescind the new shipper reviews of Nanjing Merry Trading Co., Ltd. (“Nanjing Merry”), Leping Lotai Foods Co., Ltd. (“Leping Lotai”), Weishan Hongrun Aquatic Food Co., Ltd. (“Weishan Hongrun”), and Shanghai Strong International Trading Co., Ltd. (“Shanghai Strong”).

EFFECTIVE DATES: May 11, 2007.

FOR FURTHER INFORMATION CONTACT: Erin Begnal or Scot Fullerton, AD/CVD Operations, Office 9, Import Administration, International Trade Administration, U.S. Department of Commerce, 14th Street and Constitution Avenue, NW., Washington, DC 20230; telephone: (202) 482-1442 or (202) 482-1386, respectively.

SUPPLEMENTARY INFORMATION:

Background

On March 7, 2007, the Department published its preliminary notice of its intent to rescind the 2005/2006 semi-annual new shipper reviews of the antidumping duty order on freshwater crawfish tail meat from the PRC, and invited parties to comment on the preliminary rescission. See Preliminary Rescission. In the Preliminary Rescission, the Department indicated, pursuant to 19 CFR 351.309(c)(ii), that interested parties may submit case briefs within 30 days of the date of the Preliminary Rescission. Additionally, the Department indicated that any interested party may also request a hearing within 30 days of publication of the Preliminary Rescission, in accordance with 19 CFR 351.310(c).

As of April 9, 2007, however, 30 days after publication of the Preliminary Rescission, no interested party submitted a case brief or requested a hearing be held in the context of the above-referenced new shipper reviews.¹

¹ Although 30 days after publication of the Preliminary Rescission was April 7, 2007, this date fell on a Saturday. Therefore, case briefs and hearing requests were not due until close of business, the next business day (i.e., Monday, April 9, 2007), as the agency's regulations clarify that where the applicable time limit expires on a non-business day, the Secretary will accept documents that are filed on the next business day. See 19 CFR 351.303(b).

Scope of Order

The product covered by this antidumping duty order is freshwater crawfish tail meat, in all its forms (whether washed or with fat on, whether purged or unpurged), grades, and sizes; whether frozen, fresh, or chilled; and regardless or how it is packed, preserved, or prepared. Excluded from the scope of the order are live crawfish and other whole crawfish, whether boiled, frozen, fresh, or chilled. Also excluded are saltwater crawfish and any type, and parts thereof. Freshwater crawfish tail meat is currently classifiable in the Harmonized Tariff Schedule of the United States (“HTSUS”) under item numbers 1605.40.10.10 and 1605.40.10.90, which are the HTSUS numbers for prepared foodstuffs, indicating peeled crawfish tail meat and other, as introduced by U.S. Customs and Border Protection (“CBP”) in 2000, and HTSUS numbers 0306.19.00.10 and 0306.29.00.00, which are reserved for fish and crustaceans in general. The HTSUS subheadings are provided for convenience and customs purposes only. The written description of the scope of this order is dispositive.

Period of Review

The period of review (POR) is September 1, 2005, through February 28, 2006.

Analysis of Comments Received

As noted above, we received no comments from interested parties in response to the Preliminary Rescission. While the Department normally issues a separate Issues and Decision Memorandum which accompanies a final results/rescission notice published in the Federal Register, since no briefs were submitted in the above-referenced new shipper reviews, a separate memorandum is not required.

Final Rescission

Concurrent with the Preliminary Rescission, the Department issued a memorandum detailing our analysis of the bona fides of Weishan Hongrun's U.S. sale and our preliminary decision to rescind the review based on the totality of the circumstances of the sale. See Memorandum to James C. Doyle, Director, AD/CVD Operations, Office 9, Import Administration, through Christopher D. Riker, Program Manager, AD/CVD Operations, Office 9, from Scot Fullerton, Senior Case Analyst, AD/CVD Operations, Office 9, titled 2005/2006 antidumping Duty New Shipper Review of the Antidumping Duty Order on Freshwater Crawfish Tail Meat from the People's Republic of China: Bona Fide analysis of the Sale(s) Reported by Weishan Hongrun Aquatic Food Co., Ltd. (February 22, 2007). The Department received no comments on its preliminary decision to rescind the new shipper review of Weishan Hongrun, based on the totality of the circumstances of the sale and the non-bona fide nature of the transaction.

Additionally, prior to the Preliminary Rescission, Leping Lotai, Nanjing Merry, and Shanghai Strong all submitted letters to the Department indicating they would not permit verification of the information placed on the record of the reviews. By not permitting the Department to verify the accuracy of the information each submitted to the Department, Leping Lotai, Nanjing Merry, and Shanghai Strong each failed to establish that they qualified for a separate rate. See Memorandum to James C. Doyle, Director, AD/CVD Operations, Office 9, from Scot T. Fullerton and Prentiss Lee Smith, Case Analysis, through Christopher D. Riker, Program Manager, titled Freshwater Crawfish Tail Meat from The People's Republic of China: Intent to Rescind the New Shipper Review of Leping Lotai Foods Co. (February 22, 2007); Memorandum to James C. Doyle, Director, AD/CVD Operations, Office 9, from Scot T. Fullerton and Prentiss Lee Smith, Case analysts, through Christopher D. Riker, Program Manager, titled Freshwater Crawfish Tail Meat from The People's Republic of China: Intent to Rescind the New Shipper Review of nanjing Merry Trading Co., Ltd. (February 22, 2007); Memorandum to James C. Doyle, Director, AD/CVD Operations, Office 9, from Scot T. Fullerton and Prentiss Lee Smith, Case analysts, through Christopher D. Riker, Program Manager, titled Freshwater Crawfish Tail Meat from The People's Republic of China: Intent to Rescind the New Shipper Review of Shanghai Strong International Trading Co., Ltd. (February 22, 2007).

To establish whether a company operating in a non-market economy (“NME”) is sufficiently independent from the Government to be eligible for a separate rate, the Department analyzes each exporting entity under the test established in the Final Determination of Sales at Less Than Fair Value: Sparklers From the People's Republic of China, 56 FR 20588 (May 6, 1991), as amplified by the Notice of Final Determination of Sales at Less Than Fair Value: Silicon Carbide from the People's Republic of China, 59 FR 22585 (May 2, 1994). Under the separate rates criteria, the Department assigns separate rates in NME cases only if the respondent can demonstrate the absence of both de jure and de facto governmental control over export activities.

By failing to allow the Department to verify the accuracy of their submissions, Leping Lotai, Nanjing Merry, and Shanghai Strong did not demonstrate that they are free of government control and, therefore, are not eligible to receive a separate rate. In the notices of initiation, the Department stated that an exporter unable to demonstrate the company's eligibility for a separate rate does not meet the requirements of 19 CFR 351.214(b)(2)(iii) and its new shipper review will be rescinded. See Freshwater Crawfish Tail Meat From the People's Republic of China: Initiation of Antidumping Duty New Shipper Reviews, 71 FR 26453 (May 5, 2006) (“May 5, 2006, Initiation Notice”); see also Freshwater Crawfish Tail Meat From the People's Republic of China: Initiation of Antidumping Duty New Shipper Review, 71 FR 30866 (May 31, 2006). Therefore, the Department preliminarily rescinded the new shipper reviews of Leping Lotai, Nanjing Merry, and Shanghai Strong. The Department received no comments on its preliminary decision that Leping Lotai's, Nanjing Merry's, and Shanghai Strong's reviews should be rescinded as they did not qualify for a separate rate.

Changes Since the Preliminary Results

We have made no changes to our preliminary decision to rescind the new shipper reviews of Weishan Hongrun, Leping Lotai, Nanjing Merry and Shanghai Strong.

Assessment of Antidumping Duties

A cash deposit of 223.01 percent ad valorem shall be collected for any entries produced/exported by Leping Lotai/Leping Lotai, Anhui Hengda Foodstuffs Co. Ltd./Nanjing Merry, Weishan Hongrun/Weishan Hongrun, and Jiangsu Hongda Aquatic Food Co., Ltd./Shanghai Strong.² The Department will issue appropriate assessment instructions directly to CBP within 15 days of the publication of this notice.

² The Preliminary Rescission erroneously indicated that Nanjing Merry produced the subject merchandise it exported during the POR. This merchandise, in fact, was produced by Anhui Hengda Foodstuffs Co. Ltd. See, e.g., May 5, 2006, Initiation Notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These reviews and notice are in accordance with sections 751(a)(1), 751(a)(2)(B) and 777(i)(1) of the Act and 19 CFR 351.221(b)(5).

Dated: May 4, 2007.
Stephen J. Claeys,
Deputy Assistant Secretary for Import Administration.

[FR Doc. 07-2340 Filed 5-10-07; 8:45 am]

BILLING CODE 3510-DS-M